DEPARTMENT OF DEFENSE

Office of the Secretary

32 CFR Part 185

[Docket ID: DOD-2017-OS-0054]

RIN 0790-AK06

Defense Support of Civil Authorities

AGENCY: Under Secretary of Defense for Policy, DoD.

ACTION: Final rule.

SUMMARY: This final rule removes the Department of Defense (DoD) regulation concerning defense support of civil authorities. This part contains DoD policy and assigns responsibilities for Defense Support of Civil Authorities (DSCA). This part also authorizes immediate response authority for providing DSCA, when requested, and authorizes emergency authority for the use of military force, under dire situations. The content of the rule is internal to DoD and does not require codification. The part will be removed.

DATES: This rule is effective on April 5, 2018.

FOR FURTHER INFORMATION CONTACT: Tom Lacrosse at 571-256-8319.

SUPPLEMENTARY INFORMATION: It has been determined that publication of this CFR part removal for public comment is impracticable, unnecessary, and contrary to public interest since it is based on removing DoD internal policies and procedures that are publicly available on the Department's issuance website.

DoD internal guidance concerning defense support of special events will continue to be published in DoD Directive 3025.18, “Defense Support of Civil Authorities (DSCA),” available at http://www.esd.whs.mil/Portals/54/Documents/DD/issuances/dodd/302518p.pdf.

This rule is not significant under Executive Order (E.O.) 12866, “Regulatory Planning and Review,” therefore, E.O. 13771, “Reducing Regulation and Controlling Regulatory Costs” does not apply.

List of Subjects in 32 CFR Part 185

Armed forces, Civil defense.

PART 185—[REMOVED]

Accordingly, by the authority of 5 U.S.C. 301, 32 CFR part 185 is removed.

Dated: March 30, 2018.
Aaron T. Siegel,
Alternate OSD Federal Register Liaison Officer, Department of Defense.

[FR Doc. 2018-06936 Filed 4-4-18; 8:45 am]

BILLING CODE 5001-06-P